DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Pat J. Palmer, University of Iowa: Based on the report of an investigation conducted by the University of Iowa (UI Report), the respondent's guilty plea in a State criminal case, and additional analysis conducted by ORI in its oversight review, the U.S. Public Health Service (PHS) found that Pat J. Palmer, former Assistant Research Scientist at UI, engaged in scientific misconduct (1) in research supported by National Institutes of Health (NIH) grant R01 MH55284 entitled “Collaborative Linkage Study of Autism;” (2) in grant proposals 1 R10 MH55284-01, 2 R01 MH55284-04 (both entitled “Collaborative Linkage Study of Autism”), 1 R01 DC05067-01, and 1 R55 DC05067-01A1 (both entitled “The Genetics of Specific Speech and Language Disorders”); and (3) in obtaining salary support from postdoctoral training grant T32 MH14620. PHS found that Ms. Palmer engaged in scientific misconduct by:

(1) Fabricating interview records for at least six interviews of autism patient families;

(2) Fabricating her claims for a B.S. from the University of Northern Iowa, a M.S./M.P.H. from the University of California at Berkeley, and a Ph.D. in Epidemiology/Bio-statistics from the University of Iowa in biographical sketches that were submitted to NIH in four grant applications (see above); and

(3) Fabricating her claim that she obtained a Ph.D. in Epidemiology/Bio-statistics from the University of Iowa in the biographical sketches of a training grant application, so she received salary support from July 1995 through June 1998 for postdoctoral training under NIH training grant T32 MH14620.

Ms. Palmer also engaged in dishonest conduct that demonstrates that she is not presently responsible to be a steward of Federal funds. She falsified that she was a coauthor of several published articles, by inserting her name or replacing another name with her name on 10 articles listed in her biographical sketch for four NIH grant applications (see above):

(a) Canby, C.A., [Palmer, P.J.], & Tomanek, R.J. “Role of lowering arterial pressure on maximal coronary flow with and without regression of cardiac hypertrophy.” American Journal of Physiology 257:H1110-H1118, 1989.

(b) Stegink, L.D., Brummel, M.C., Filer, L.J., Jr, & [Palmer, P.J., replaced Baker, G.L.]. “Blood methanol concentrations in one-year old infants administered grade [sic] doses of aspartame.” Journal of Nutrition 113:1600-1606, 1983.

(c) Stegink, L.D., Koch, R., [Palmer, P.J., replaced Blaskovics, M.E.], Filer, L.J., Jr., Baker, G.L., & McDonnell, J.E. “Plasma phenylalanine levels in phenylketonuric heterozygous and normal adults administered aspartame at 34mg/kg body weight.” Toxicology 20:81-90, 1981.

(d) Stegink, L.D., Brummel, M.C., [Palmer, P.J., replaced McMartin, K.], Martin-Amat, G., Filer, L.J., Jr., Baker, G.L., & Tephly, T.R. “Blood methanol concentrations in normal adult subjects administered abuse doses of aspartame.” Journal of Toxicology & Environmental Health 7:281-290, 1981.

(e) Stegink, L.D., Reynolds, W.A., Pitkin, R.M., Cruikshank, D.P., & [Palmer, P.J.]. “Placental transfer of taurine in rhesus monkeys.” American Journal of Clinical Nutrition 24:2685-2692, 1981.

(f) Stegink, L.D., Filer, L.J., Jr, Baker, G.L., & [Palmer, P.J., replaced Brummel, M.C.]. “Plasma and erythrocyte amino acid levels of adult humans given l00mg/kg body weight aspartame.” Toxicology 14:131-140, 1979.

(g) Weiss, N.S., Szekely, D.R., Austin, D.F., & [Palmer, P.J.]. “Increasing incidence of endometrial cancer in the United States.” New England Journal of Medicine 294:1259-1262, 1976.

(h) Elwood, E.K., & [Palmer, P.J., replaced Apostolopoulos, A.X]. “Analysis of developing enamel of the rat. II.Electrophoretic and amino acid studies.” Clinical Metabolic Studies [sic] [should be Calcified Tissue Research] 17:327-335, 1975.

(I) Aronow, W.S., Goldsmith, J.R., Kern, J.C., Cassidy, J, [Palmer, P.J.], Johnson, L.L., Adams, W., & Nelson, W.H. “Effect of smoking cigarettes on cardiovascular hemodynamics.” Archives of Environmental Health 28, 330-332, 1974.

(j) Seltzer, C.C., Friedman, G.D., Siegelaub, A.B., & [Palmer, P.J., replaced Collen, M.F.]. “Smoking habits and pain tolerance.” Archives of Environmental Health 29,170-172, 1974.

Ms. Palmer has entered into a Voluntary Exclusion Agreement (Agreement) in which she has voluntarily agreed for a period of three (3) years, beginning on January 26, 2004:

(1) To exclude herself from any contracting or subcontracting with any agency of the United States government and from eligibility or involvement in nonprocurement programs of the United States government referred to as “covered transactions” as defined in the debarment regulations at 45 CFR part 76; and

(2) To exclude herself from serving in any advisory capacity to PHS including but not limited to service on any PHS advisory committee, board, and/or peer review committee, or as a consultant.

FOR FURTHER INFORMATION CONTACT: Director, Division of Investigative Oversight, Office of Research Integrity, 1101 Wootton Parkway, Suite 750, Rockville, MD 20852; (301) 443-5330.

Chris B. Pascal,
Director, Office of Research Integrity.

[FR Doc. 04-3336 Filed 2-13-04; 8:45 am]

BILLING CODE 4150-31-P